DEPARTMENT OF THE INTERIOR

Fish and Wildlife Service

[FWS-R4-R-2009-N0042; 40136-1265-0000-S3]

Ernest F. Hollings ACE Basin National Wildlife Refuge, Charleston, Beaufort, Colleton, and Hampton Counties, SC

AGENCY: Fish and Wildlife Service, Interior.

ACTION: Notice of availability: draft comprehensive conservation plan and environmental assessment; request for comments.

SUMMARY: We, the Fish and Wildlife Service (Service), announce the availability of a draft comprehensive conservation plan and environmental assessment (Draft CCP/EA) for Ernest F. Hollings ACE Basin National Wildlife Refuge (ACE Basin NWR) for public review and comment. In this Draft CCP/EA, we describe the alternative we propose to use to manage this refuge for the 15 years following approval of the Final CCP.

DATES: To ensure consideration, we must receive your written comments by June 3, 2009.

ADDRESSES: Send comments, questions, and requests for information to: Mr. Van Fischer, Natural Resource Planner, South Carolina Lowcountry Refuge Complex, 5801 Highway 17 North, Awendaw, SC 29429. A copy of the Draft CCP/EA is available on both compact disc and hard copy, and it may be accessed and downloaded from the Service's Internet site: http://southeast.fws.gov/planning.

FOR FURTHER INFORMATION CONTACT: Mr. Van Fischer, Natural Resource Planner; telephone: 843/928-3264; e-mail: van_fischer@fws.gov.

SUPPLEMENTARY INFORMATION:

Introduction

With this notice, we continue the CCP process for ACE Basin NWR. We started the process through a notice in the Federal Register on January 3, 2007 (72 FR 141).

Background

The CCP Process

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

ACE Basin NWR was established on September 20, 1990, and was renamed the Ernest F. Hollings ACE Basin National Wildlife Refuge on May 16, 2005. The refuge is a partner in the ACE Basin Task Force, a coalition consisting of the Service, South Carolina Department of Natural Resources, Ducks Unlimited, The Nature Conservancy, The Low Country Open Land Trust, Mead Westvaco, and private landowners. The refuge's two separate units (Edisto Unit and Combahee Unit) are further broken down into sub-units, with the Edisto Unit containing the Barrelville, Grove, and Jehossee sub-units, and the Combahee Unit containing the Bonny Hall, Combahee Fields, and Yemassee sub-units. The refuge is divided into nine management units or compartments, ranging in size from 350 to 3,355 acres. Compartment boundaries are established along geographic features that can be easily identified on the ground (i.e., rivers, roads, and trails).

Serving as a basis for each alternative, goals and sets of objectives were developed to help fulfill the purposes of the refuge and the mission of the National Wildlife Refuge System. These alternatives represent different approaches to managing the refuge, while still meeting purposes and goals. Plans will be revised at least every 15 years, or earlier, if monitoring indicates management changes are warranted.

CCP Alternatives, Including Our Proposed Alternative

We developed three alternatives for managing the refuge and chose Alternative C as the proposed alternative. A full description is in the Draft CCP/EA. We summarize each alternative below.

Alternative A: Continuation of Current Refuge Management (No Action)

This alternative represents no change from current management of the refuge and provides a baseline. Management emphasis would continue to focus on maintaining existing managed wetlands for wintering waterfowl, shorebirds, and wading birds. Primary activities include managing wetland impoundments (primarily historically created “rice fields”), managing old farm fields in a grassland/scrub/shrub mosaic for neotropical migratory birds, basic species monitoring, wood duck banding, and managing moist soil for waterfowl. Alternative A represents the anticipated conditions of the refuge for the next 15 years, assuming current funding, staffing, policies, programs, and activities continue. The other two alternatives are compared to this alternative in order to evaluate differences in future conditions compared to baseline management.

This alternative reflects actions that include managing habitat for resident and wintering waterfowl, nesting bald eagles, foraging wood storks, and over-wintering whooping cranes (experimental flock). Further, it reflects actions for maintaining upland and wetland forests; for repairing wetland impoundment control structures (aluminum flash board risers and wooden “rice trunks”), dikes, and internal drainage ditches and canals; for managing habitat for neotropical migratory birds; and for providing wildlife-dependent recreation opportunities. Species monitoring would be limited due to staffing constraints, volunteer assistance, and limited research interest. Habitat management actions would primarily benefit waterfowl, wading birds, shorebirds, and grassland-associated passerine birds; however, there is limited active management of other species and habitats.

Management coordination would occur between the refuge and the state. Coordination would be limited because of staffing constraints and remain focused on waterfowl management and grassland habitat management, hunting, and fishing. Hunting and fishing would be allowed on the refuge provided that state regulations were followed. Wildlife-dependent uses are allowed on the refuge with all areas open to the public, although some areas are only seasonally open.

The refuge would remain staffed at current levels with periodic interns. Researchers would be accommodated when projects benefit the refuge.

Alternative B: Protection of Trust Resources and State-Listed Species

Alternative B places refuge management emphasis on the protection of trust resources (migratory birds and threatened and endangered species), as well as several state-listed species.

This alternative expands on Alternative A, with a greater amount of active habitat management on the refuge. The focus of this alternative is to enhance and expand suitable habitat under species-specific management, targeted to attract greater numbers of wintering waterfowl and breeding areas for resident wood ducks. The acreage of managed wetlands (enhanced moist-soil management practices) and greentree reservoirs would be increased to accommodate larger waterfowl numbers. Some open fields and scrub/shrub areas on the refuge would be more intensively managed to increase populations of neotropical migratory and breeding songbirds to higher levels than under Alternative A, but limited to maintaining existing areas suitable for these migratory species. There would be an increased effort to control invasive exotic plants.

This alternative proposes to increase monitoring efforts to focus primarily on threatened and endangered species (e.g., wood storks), waterfowl, and other migratory birds, with less effort to address other non-migratory resident species. Under Alternative A, monitoring would focus almost entirely on waterfowl, but does include other species as resources permit. This alternative would provide extensive waterfowl and endangered species monitoring with little additional effort for monitoring other species. Monitoring efforts would only occur based on available staffing, additional volunteers, and academic research.

Wildlife-dependent uses of the refuge would continue. Hunting and fishing would continue to be allowed and environmental education and interpretation would be enhanced. Interpretive signage would be increased or added to existing nature trails. There would be restricted access to some areas of the refuge that have waterfowl and threatened or endangered species sensitive to disturbance. Interpretation efforts would focus mostly on the primary objectives of waterfowl and other migratory bird management.

The refuge would be staffed at current levels, plus the addition of one forester to increase components of the Forest Management Plan and one public use park ranger. Researchers (enhancement of the existing research partnership with the Nemours Wildlife Foundation) would be accommodated when projects benefit the refuge and focus mostly towards waterfowl habitat and management (old rice fields/moist-soil management units).

Alternative C: Wildlife and Habitat Diversity (Proposed Alternative)

This alternative expands on Alternative A, with a greater amount of effort to manage the refuge to increase overall wildlife and habitat diversity. Although waterfowl, threatened and endangered species, and other migratory birds would remain a focus of management, wetland habitat manipulations would also consider the needs of multiple species, such as marsh and wading birds. Management of upland forests and fields for neotropical migratory birds would be more actively managed than under Alternative B. Landscape level consideration of habitat management would include a diversity of open fields, upland and wetland forests, and additional managed wetlands. Upland loblolly pine plantations (relic industrial forest) would be heavily thinned to encourage multi-strata vegetation composition and hardwood interspersion. More xeric loblolly pine plantations would be converted to longleaf pine savannas and subjected to frequent growing season prescribed fires to favor warm season grasses and forbs, and the potential reintroduction of red cockaded woodpeckers in the ACE Basin Project Area. Multiple species consideration would include species and habitats identified by the South Atlantic Migratory Bird Initiative and the state's Strategic Conservation Plan.

This alternative would expand on the monitoring efforts of Alternative A to provide additional monitoring of migratory neotropical and breeding songbirds, and other resident species. Monitoring efforts would be increased with the assistance of additional staff, trained volunteers, and academic research. Greater effort would be made to recruit academic researchers to the refuge to study and monitor refuge resources.

Wildlife-dependent uses of the refuge would continue. Hunting and fishing would continue to be allowed. However, hunting would be managed with a greater focus to achieve biological needs of the refuge, such as deer population management and feral hog control. Education and interpretation would be the same as Alternative A, but with additional education and outreach efforts aimed at the importance of landscape and diversity. A significantly greater effort would be made with outreach to nearby developing urban communities and a growing human population. Existing environmental education programs, such as Earth Stewards, conducted in concert with the SEWEE Association (refuge friends group) would be expanded to include additional elementary schools, students, and teachers.

The refuge would be staffed at the 2008 staffing level to enhance all refuge services and management programs. Greater emphasis would be placed on recruiting and training volunteers to facilitate the accomplishment of maintenance programs and other refuge objectives. Refuge biological programs would actively seek funding and researchers to study primarily management-oriented needs. The staff would place greater emphasis on developing and maintaining active partnerships, including seeking grants to assist the refuge in reaching primary objectives.

Next Step

After the comment period ends, we will analyze the comments and address them.

Public Availability of Comments

Before including your address, phone number, e-mail address, or other personal identifying information in your comment, you should be aware that your entire comment, including your personal identifying information, may be made publicly available at any time. While you can ask us in your comment to withhold your personal identifying information from public review, we cannot guarantee that we will be able to do so.

Authority: This notice is published under the authority of the National Wildlife Refuge System Improvement Act of 1997, Public Law 105-57.

Dated: March 6, 2009.
Cynthia K. Dohner,
Acting Regional Director.

[FR Doc. E9-10153 Filed 5-1-09; 8:45 am]

BILLING CODE 4310-55-P